DEPARTMENT OF TRANSPORTATION

Surface Transportation Board

[Docket No. FD 35541]

Tyburn Railroad, LLC—Acquisition and Operation Exemption—Tyburn Railroad Company

Tyburn Railroad, LLC (Tyburn), a noncarrier, has filed a verified notice of exemption under 49 CFR 1150.31 to acquire from Tyburn Railroad Company and operate approximately 0.9 miles of rail lines in Morrisville, Pa.

According to Tyburn, there are no mileposts associated with the lines, which are located at “1535 S. Pennsylvania Avenue” in Morrisville. The lines were formerly a yard owned by Consolidated Rail Corporation (Conrail) and are located in a Conrail Shared Asset Area. Tyburn states that it will be able to interchange traffic with Norfolk Southern Railway Company (NS) and CSX Transportation, Inc. (CSXT), and Tyburn will enter into standard agreements with Conrail, NS, and CSXT to effect such interchange.

This transaction is related to a concurrently filed verified notice of exemption in Docket No. FD 35542, Regional Rail—Continuance in Control Exemption—Tyburn Railroad, wherein Regional Rail, LLC seeks Board approval to continue in control of Tyburn, upon Tyburn's becoming a Class III rail carrier.

The transaction may not be consummated until August 28, 2011 (30 days after the notice of exemption was filed).

Tyburn certifies that its projected annual revenues as a result of this transaction will not result in its becoming a Class II or Class I rail carrier and will not exceed $5 million.

If the verified notice contains false or misleading information, the exemption is void ab initio. Petitions to revoke the exemption under 49 U.S.C. 10502(d) may be filed at any time. The filing of a petition to revoke will not automatically stay the effectiveness of the exemption. Petitions to stay must be filed no later than August 19, 2011 (at least 7 days before the exemption becomes effective).

An original and 10 copies of all pleadings, referring to Docket No. FD 35541, must be filed with the Surface Transportation Board, 395 E Street, SW., Washington, DC 20423-0001. In addition, a copy of each pleading must be served on Karl Morell, Suite 225, 655 15th St., NW., Washington, DC 20005.

Board decisions and notices are available on our Web site at http://www.stb.dot.gov.

Decided: August 5, 2011.
By the Board.
Rachel D. Campbell,
Director, Office of Proceedings.
Jeffrey Herzig,
Clearance Clerk.

[FR Doc. 2011-20556 Filed 8-11-11; 8:45 am]

BILLING CODE 4915-01-P